DEPARTMENT OF ENERGY

Federal Energy Regulatory Commission

[Docekt No. RP02-445-002]

Sea Robin Pipeline Company; Notice of Compliance Filing

December 26, 2002.

Take notice that on December 20, 2002, Sea Robin Pipeline Company (Sea Robin) tendered for filing as part of its FERC Gas Tariff, First Revised Volume No. 1, Eighth Revised Sheet No. 2, to be effective October 1, 2002.

Sea Robin states that the purpose of this filing, made in accordance with the provisions of Section 154.204 of the Commission's Regulations, is to conform the pagination and content of Tariff Sheet No. 2 to reflect the Commission's acceptance of tariff revisions in Docket Nos. RP00-470-001 and RP02-445-000. Sea Robin is proposing no change to the content on Sheet No. 2 that has been accepted by the Commission in these two separate filings.

Sea Robin's states that copies of this filing are being served on all jurisdictional customers and interested state regulatory agencies.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: January 2, 2003.
Linwood A. Watson, Jr.,
Deputy Secretary.

[FR Doc. 02-33062 Filed 12-31-02; 8:45 am]

BILLING CODE 6717-01-P